DEPARTMENT OF COMMERCE

International Trade Administration

[A-570-937]

Citric Acid and Certain Citrate Salts From the People's Republic of China: Extension of Time Limit for the Final Results of the Antidumping Duty Administrative Review

AGENCY: Import Administration, International Trade Administration, Department of Commerce.

DATES: Effective Date: August 4, 2011.

FOR FURTHER INFORMATION CONTACT: Krisha Hill or Maisha Cryor, AD/CVD Operations, Office 4, Import Administration, International Trade Administration, U.S. Department of Commerce, 14th Street and Constitution Avenue, NW., Washington, DC 20230; telephone: (202) 482-4037 or (202) 482-5831, respectively.

SUPPLEMENTARY INFORMATION:

Background

On June 30, 2010, the Department of Commerce (“the Department”) published the initiation of the administrative review of the antidumping duty order on citric acid and certain citrate salts (“citric acid”) from the People's Republic of China (“PRC”). See Initiation of Antidumping and Countervailing Duty Administrative Reviews and Deferral of Administrative Review, 75 FR 37759 (June 30, 2010). On June 10, 2011, the Department published the preliminary results of the first administrative review of the antidumping duty order of citric acid from the PRC. See Citric Acid and Certain Citrate Salts From the People's Republic of China: Preliminary Results of the First Administrative Review of the Antidumping Duty Order; and Partial Rescission of Administrative Review, 76 FR 34048 (June 10, 2011). This review covers the periods November 20, 2008, through May 19, 2009, and May 29, 2009, through April 30, 2010. The final results of this review are currently due no later than October 8, 2011.

Extension of Time Limit for Final Results of Review

Pursuant to section 751(a)(3)(A) of the Tariff Act of 1930, as amended (“the Act”), the Department shall make a final determination in an administrative review of an antidumping duty order within 120 days after the last day of the anniversary month of the date of publication of the order. The Act further provides, however, that the Department may extend that 120-day period to 180 days if it determines it is not practicable to complete the review within the foregoing time period.

The Department finds that it is not practicable to complete the final results of the administrative review of citric acid from the PRC within this time limit. Specifically, additional time is needed to examine respondents' production process, factors of production, and financial statements. Furthermore, the Department requires additional time to prepare for on-site verifications of respondent companies. Therefore, in accordance with section 751(a)(3)(A) of the Act, the Department is fully extending the time period for completion of the final results of this review, which is currently due on October 8, 2011, by 60 days. Therefore, the final results are now due no later than December 7, 2011.

This notice is published in accordance with sections 751(a)(3)(A) and 777(i) of the Act.

Dated: July 22, 2011.
Christian Marsh,
Deputy Assistant Secretary for Antidumping and Countervailing Duty Operations.

[FR Doc. 2011-19703 Filed 8-3-11; 8:45 am]

BILLING CODE 3510-DS-P